RAILROAD RETIREMENT BOARD

Agency Forms Submitted for OMB Review

SUMMARY: In accordance with the Paperwork Reduction Act of 1995 (44 U.S.C. Chapter 35), the Railroad Retirement Board (RRB) has submitted the following proposal(s) for the collection of information to the Office of Management and Budget for review and approval.

Summary of Proposal(s)

(1) Collection Title: Employer Reporting.

(2) Form(s) Submitted: AA-12, G-88A.1, G-88A.2, BA-6a.

(3) OMB Number: 3220-0005.

(4) Expiration Date of Current OMB Clearance: 11/30/2003.

(5) Type of Request: Revision of a currently approved collection.

(6) Respondents: Individuals or Households, Business or other for-profit.

(7) Estimated Annual Number of Respondents: 4,764.

(8) Total Annual Responses: 4,764.

(9) Total Annual Reporting Hours: 588.

(10) Collection Description: Under the Railroad Retirement Act and the Railroad Unemployment Insurance Act, railroad employers are required to report service and compensation for employees needed to determine eligibility to and amount of benefits paid.

Additional Information or Comments

Copies of the forms and supporting documents can be obtained from Chuck Mierzwa, the agency clearance officer (312-751-3363). Comments regarding the information collection should be addressed to Ronald J. Hodapp, Railroad Retirement Board, 844 North Rush Street, Chicago, Illinois, 60611-2092 and the OMB reviewer, Joe Lackey (202-395-7316), Office of Management and Budget, Room 10230, New Executive Office Building, Washington, DC 20503.

Chuck Mierzwa,
Clearance Officer.

[FR Doc. 01-9911 Filed 4-20-01; 8:45 am]

BILLING CODE 7905-01-M